LEGAL SERVICES CORPORATION

Notice of Solicitation of Proposals for Calendar Year 2020 Basic Field Grant Awards

AGENCY: Legal Services Corporation.

ACTION: Solicitation for proposals for the Provision of Civil Legal Services.

SUMMARY: The Legal Services Corporation (LSC) is a federally established and funded organization that funds civil legal aid organizations across the country and in the U.S. territories. Its mission is to expand access to justice by funding high-quality legal representation for low-income people in civil matters.

In anticipation of a congressional appropriation to LSC for Fiscal Year 2020, LSC hereby announces the availability of funds for grants to be made in calendar year 2020 and is soliciting grant proposals from interested parties who are qualified to provide effective, efficient, and high-quality civil legal services to eligible clients in the service area(s) of the states and territories identified below. The availability and the exact amount of congressionally appropriated funds, as well as the date, terms, and conditions of funds available for grants for calendar year 2020, have not been determined.

DATES: See Supplementary Information section for grant application dates.

ADDRESSES: Legal Services Corporation—Notice of Funds Availability, 3333 K Street NW, Third Floor, Washington, DC 20007-3522.

FOR FURTHER INFORMATION CONTACT: Judith Kim, Office of Program Performance, at (202) 295-1518 or lscgrants@lsc.gov, or visit the LSC website at https://www.lsc.gov/grants-grantee-resources/our-grant-programs.

SUPPLEMENTARY INFORMATION: Applicants must file a Notice of Intent to Compete (NIC) to participate in the LSC grants process. Applicants must file the NIC by May 3, 2019, 5:00 p.m. E.D.T. The print version of the Request for Proposals (RFP), which contains the grant proposal guidelines, proposal content requirements, and selection criteria, and provides access to the NIC and the service area descriptions will be available at https://www.lsc.gov/grants-grantee-resources/our-grant-programs/basic-field-grant on or around the week of April 8, 2019.

In addition to submitting the grant proposal, applicants for basic field grant awards must also respond to the LSC Fiscal Grantee Funding Application (FGFA). The FGFA will be available on or around the week of April 8, 2019. Please access the FGFA and the online RFP application at https://www.lsc.gov/grants-grantee-resources/grantee-login.

The listing of all key dates in the LSC 2020 basic field grants process, including the deadlines for filing the grant proposals and the FGFA are at http://www.lsc.gov/grants-grantee-resources/our-grant-programs/basic-field-grant/basic-field-grant-key-dates.

LSC seeks proposals from: (1) Non-profit organizations that have as a purpose the provision of legal assistance to eligible clients; (2) private attorneys; (3) groups of private attorneys or law firms; (4) state or local governments; and (5) sub-state regional planning and coordination agencies that are composed of sub-state areas and whose governing boards are controlled by locally elected officials.

The service areas for which LSC is requesting grant proposals are listed below. Service area descriptions are available at https://www.lsc.gov/grants-grantee-resources/our-grant-programs/basic-field-grant/lsc-service-areas. LSC will post all updates and/or changes to this notice at http://www.lsc.gov/grants-grantee-resources/our-grant-programs/basic-field-grant. Interested parties are asked to visit http://www.lsc.gov/grants-grantee-resources/our-grant-programs/basic-field-grant regularly for updates on the LSC grants process.

State or Territory | Service Area(s).
Arizona | AZ-3, AZ-5, NAZ-6, MAZ.
Arkansas | AR-6, AR-7.
California | CA-1, CA-12, CA-27, CA-28, NCA-1.
Connecticut | CT-1.
District of Columbia | DC-1.
Illinois | IL-3, IL-7.
Kentucky | KY-2, KY-9, KY-10.
Louisiana | LA-13.
Massachusetts | MA-4, MA-10, MA-11.
Michigan | MI-9, MI-12, MI-15, MMI, NMI-1.
Minnesota | MN-4, MN-5, MN-6, MMN.
Missouri | MO-4, MO-5.
New Hampshire | NH-1.
New Mexico | NM-5, MNM, NNM-4.
New York | NY-9.
North Dakota | MND.
Ohio | OH-18, OH-20, OH-21, OH-23, MOH.
Oklahoma | OK-3, NOK-1, MOK.
Pennsylvania | PA-5, PA-24.
Puerto Rico | PR-2.
South Dakota | SD-2.
Tennessee | TN-4, TN-7, TN-9, TN-10.
Texas | TX-13, TX-15, NTX-1, MSX-2.
Virginia | VA-17, VA-19, VA-20.
West Virginia | WV-5.
Wisconsin | WI-5, MWI.

March 7, 2019.
Stefanie Davis,
Assistant General Counsel.

[FR Doc. 2019-04461 Filed 3-11-19; 8:45 am]

BILLING CODE 7050-01-P